DEPARTMENT OF THE TREASURY

Internal Revenue Service

26 CFR Part 1

[REG-140280-09]

RIN 1545-BK16

Tax Return Preparer Penalties Under Section 6695; Correction

AGENCY: Internal Revenue Service (IRS), Treasury.

ACTION: Correction to notice of proposed rulemaking and notice of public hearing.

SUMMARY: This document contains a correction to a notice of proposed rulemaking that were published in the Federal Register on Tuesday, October 11, 2011. These proposed regulations would modify existing regulations related to the tax return preparer penalties under section 6695 of the Internal Revenue Code. The proposed regulations are necessary to monitor and to improve compliance with the tax return preparer due to diligence requirements of this section.

FOR FURTHER INFORMATION CONTACT: Spence Hanemann, (202) 622-4940 (not a toll-free number).

SUPPLEMENTARY INFORMATION:

Background

The notice of proposed rulemaking (REG-140280-09) that is the subject of this correction is under section 6695 of the Internal Revenue Code.

Need for Correction

As published October 11, 2011 (76 FR 62689), the notice of proposed regulations (REG-140280-09) contains an error that may prove to be misleading and is in need of clarification.

Correction of Publication

Accordingly, the notice of proposed rulemaking (REG-140280-09), that was the subject of FR Doc. 2011-26247, is corrected as follows:

1. On page 62689, column 2, in the preamble under the caption ADDRESSES, line 14, the language “www.regulations.gov/Regs” is corrected to read “www.regulations.gov/”.

Diane O. Williams,
Federal Register Liaison, Publications and Regulations Branch, Legal Processing Division, Associate Chief Counsel (Procedure and Administration).

[FR Doc. 2011-26652 Filed 10-11-11; 4:15 pm]

BILLING CODE 4830-01-P